DEPARTMENT OF COMMERCE

Foreign-Trade Zones Board

[Order No. 1907]

Reorganization of Foreign-Trade Zone 122 Under Alternative Site Framework; Corpus Christi, Texas

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the Port of Corpus Christi Authority, grantee of Foreign-Trade Zone 122, submitted an application to the Board (FTZ Docket B-15-2013, docketed 02/20/2013) for authority to reorganize under the ASF with a service area of Nueces, San Patricio, Aransas, Jim Wells, Kleberg and Bee Counties, Texas, within and adjacent to the Corpus Christi Customs and Border Protection port of entry, and FTZ 122's existing Site 1 would be categorized as a magnet site, existing Sites 3, 7 and 8 would be categorized as usage-driven sites, and existing Site 4 would be removed from the zone;

Whereas, notice inviting public comment was given in the Federal Register (78 FR 13015-13016, 02/26/2013) and the application has been processed pursuant to the FTZ Act and the Board's regulations; and,

Whereas, the Board adopts the findings and recommendations of the examiner's report, and finds that the requirements of the FTZ Act and the Board's regulations are satisfied;

Now, therefore, the Board hereby orders:

The application to reorganize FTZ 122 under the ASF is approved, subject to the FTZ Act and the Board's regulations, including Section 400.13, to the Board's standard 2,000-acre activation limit for the zone, and to a three-year ASF sunset provision for usage-driven sites that would terminate authority for Sites 3, 7 and 8 if no foreign-status merchandise is admitted for a bona fide customs purpose by July 31, 2016.

Signed at Washington, DC, this 16th day of July 2013.
Paul Piquado,
Assistant Secretary of Commerce for Import Administration, Alternate Chairman, Foreign-Trade Zones Board.

Andrew McGilvray,
Executive Secretary.

[FR Doc. 2013-17699 Filed 7-23-13; 8:45 am]

BILLING CODE 3510-DS-P